DEPARTMENT OF DEFENSE

Office of the Secretary

[Docket ID: DoD-2021-OS-0026]

Proposed Collection; Comment Request; Correction

AGENCY: Office of the Under Secretary of Defense for Personnel and Readiness, Department of Defense (DoD).

ACTION: Information collection notice; correction.

SUMMARY: On April 26, 2021, the DoD published a document that provided notice of a proposed public information collection titled Workplace and Gender Relations Survey of DoD Civilians; OMB Control Number 0704-WGRC. Subsequent to publication of the notice, DoD is making a correction to the contact information listed in the FOR FURTHER INFORMATION CONTACT section. An incorrect telephone number was listed. The correct telephone number is 831-236-9631.

DATES: This correction will be effective on June 24, 2021.

FOR FURTHER INFORMATION CONTACT: Patricia Toppings, 571-372-0485.

SUPPLEMENTARY INFORMATION: On April 26, 2021 (86 FR 22036-22037), the DoD published the information collection notice cited in the SUMMARY section with an incorrect telephone number. Subsequent to publication of the notice, DoD is correcting the telephone number. The correct telephone number is 831-236-9631. All other information in the notice of April 26, 2021 remains the same.

Dated: June 16, 2021.
Aaron T. Siegel,
Alternate OSD Federal Register Liaison Officer, Department of Defense.

[FR Doc. 2021-13480 Filed 6-23-21; 8:45 am]

BILLING CODE 5001-06-P